DEPARTMENT OF COMMERCE

International Trade Administration

[A-570-008]

Calcium Hypochlorite From the People's Republic of China: Preliminary Intent To Rescind the New Shipper Review of Haixing Jingmei Chemical Products Sales Co., Ltd.

AGENCY: Enforcement and Compliance, International Trade Administration, Department of Commerce.

SUMMARY: In response to a July 17, 2015 request from Haixing Jingmei Chemical Products Sales Co., Ltd. (“Jingmei”), and its affiliated producer, Haixing Eno Chemical Co., Ltd. (“Eno”), the Department of Commerce (the Department) is conducting a new shipper review of Haixing Jingmei Chemical Products Sales Co., Ltd. (“Jingmei”), regarding the antidumping duty order on calcium hypochlorite from the People's Republic of China (“PRC”). The period of review (“POR”) is July 25, 2014, through June 30, 2015.¹ The Department preliminarily determines to rescind this review because we requested but were not provided sufficient information to conduct a bona fide analysis as required by the statute, and accordingly cannot determine whether Jingmei's new shipper sales are bona fide. Interested parties are invited to comment on these preliminary results.

¹ See Calcium Hypochlorite From the People's Republic of China: Initiation of Antidumping Duty New Shipper Review; 2014-2015, 80 FR 51774 (August 26, 2015).

DATES: Effective Date: June 27, 2016.

FOR FURTHER INFORMATION CONTACT: Kabir Archuletta, AD/CVD Operations, Office V, Enforcement and Compliance, International Trade Administration, U.S. Department of Commerce, 14th Street and Constitution Avenue NW., Washington, DC 20230; telephone: (202) 482-2593.

SUPPLEMENTARY INFORMATION:

Background

On August 26, 2015, the Department published notice of initiation of a new shipper review of calcium hypochlorite from the PRC for the period July 25, 2014, through June 30, 2015.² On November 5, 2015, the Department extended the deadline for the preliminary results to June 14, 2016.³ The Department tolled the deadline for these preliminary results by an additional four business days as a result of the Government closure due to Snowstorm “Jonas,” which extended the deadline to June 20, 2016.⁴

² See Calcium Hypochlorite From the People's Republic of China: Initiation of Antidumping Duty New Shipper Review; 2014-2015, 80 FR 51774 (August 26, 2015).

³ See Memorandum to the File through James C. Doyle, Director, Office V, to Christian Marsh, Deputy Assistant Secretary for Antidumping and Countervailing Duty Operations “Extension of Deadline for Preliminary Results of New Shipper Review; 2014-2015” (November 5, 2015).

⁴ See Memorandum for the Record from Ron Lorentzen, Acting Assistant Secretary for Enforcement and Compliance “Tolling of Administrative Deadlines as a Result of the Government Closure during Snowstorm `Jonas' ” (January 27, 2016).

Scope of the Order

The merchandise covered by the Order is calcium hypochlorite, regardless of form (e.g., powder, tablet (compressed), crystalline (granular), or in liquid solution), whether or not blended with other materials, containing at least 10% available chlorine measured by actual weight. Calcium hypochlorite is currently classifiable under the subheading 2828.10.0000 of the Harmonized Tariff Schedule of the United States.⁵

⁵ See Memorandum to Ronald K. Lorentzen, Acting Assistant Secretary for Enforcement and Compliance, from Christian Marsh, Deputy Assistant Secretary for Antidumping and Countervailing Duty Operations “Decision Memorandum for the Preliminary Results of the Antidumping Duty New Shipper Review of Calcium Hypochlorite from the People's Republic of China: Haixing Jingmei Chemical Products Sales Co., Ltd.” dated concurrently with and hereby adopted by this notice (“Preliminary Decision Memorandum”) for a complete description of the Scope of the Order. See also Memorandum to James Doyle, Director, Office V, Antidumping and Countervailing Duty Operations, through Catherine Bertrand, Program Manager, Office V, Antidumping and Countervailing Duty Operations, from Kabir Archuletta, Senior International Trade Analyst, titled “Bona Fide Nature of the Sales in the Antidumping Duty New Shipper Review of Calcium Hypochlorite from the People's Republic of China: Haixing Jingmei Chemical Products Sales Co., Ltd.” dated concurrently with this notice.

Methodology

The Department is conducting this review in accordance with section 751(a)(2)(B) of the Tariff Act of 1930, as amended (“the Act”), and 19 CFR 351.214. For a full description of the methodology underlying our conclusions, see the Preliminary Decision Memorandum.

The Preliminary Decision Memorandum is a public document and is on file electronically via Enforcement and Compliance's Antidumping and Countervailing Duty Centralized Electronic Service System (“ACCESS”). ACCESS is available to registered users at http://access.trade.gov and in the Department's Central Records Unit, room B8024 of the main Department of Commerce building. In addition, a complete version of the Preliminary Decision Memorandum can be accessed directly on the Internet at http://enforcement.trade.gov/frn/. The signed Preliminary Decision Memorandum and the electronic versions of the Preliminary Decision Memorandum are identical in content.

Preliminary Rescission of Jingmei New Shipper Review

For the reasons detailed in the Preliminary Decision Memorandum, the Department preliminarily finds that, as a result of Jingmei's customers' failure to provide necessary information, we cannot determine whether Jingmei's sales under review are bona fide, and, therefore, whether they provide a reasonable or reliable basis for calculating a dumping margin. As result, the Department is preliminarily rescinding the new shipper review of Jingmei.

Disclosure and Public Comment

The Department will disclose the analysis performed for these preliminary results to the parties within five days of the date of publication of this notice in accordance with 19 CFR 351.224(b). Interested parties may submit written comments by no later than 30 days after the date of publication of these preliminary results of review.⁶ Rebuttals, limited to issues raised in the written comments, may be filed by no later than five days after the written comments are filed.⁷

⁶ See 19 CFR 351.309(c).

⁷ See 19 CFR 351.309(d).

Any interested party may request a hearing within 30 days of publication of this notice.⁸ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 1401 Constitution Avenue NW., Washington, DC 20230.⁹

⁸ See 19 CFR 351.310(c).

⁹ See 19 CFR 351.310(d).

The Department intends to issue the final results of this new shipper review, which will include the results of its analysis of issues raised in any such comments, within 90 days of publication of these preliminary results, pursuant to section 751(a)(2)(B)(iv) of the Act.

Assessment Rates

Upon completion of the final results, pursuant to 19 CFR 351.212(b), the Department will determine, and the U.S. Customs and Border Protection (“CBP”) shall assess, antidumping duties on all appropriate entries. If we proceed to a final rescission of the new shipper review, Jingmei's entries will be assessed at the rate entered.¹⁰ If we do not proceed to a final rescission of the new shipper review, pursuant to 19 CFR 351.212(b)(1), we will calculate importer-specific assessment rates. We will instruct CBP to assess antidumping duties on all appropriate entries covered by this review if any importer-specific assessment rate calculated in the final results of this review is above de minimis.¹¹

¹⁰ See 19 CFR 351.212(c).

¹¹ See 19 CFR 351.106(c)(2).

Cash Deposit Requirements

Effective upon publication of the final rescission or the final results of this new shipper review, we will instruct CBP to discontinue the option of posting a bond or security in lieu of a cash deposit for entries of subject merchandise by Jingmei. If the Department proceeds to a final rescission of the new shipper review, the cash deposit rate will continue to be the PRC-wide rate. If we issue final results of the new shipper review for Jingmei, we will instruct CBP to collect cash deposits, effective upon the publication of the final results, at the rates established therein.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

The Department is issuing and publishing these results in accordance with sections 751(a)(2)(B) and 777(i)(l) of the Act, and 19 CFR 351.214 and 19 CFR 351.221(b)(4).

Dated: June 20, 2016.
Ronald K. Lorentzen,
Acting Assistant Secretary for Enforcement and Compliance.

Appendix

List of Topics Discussed in the Preliminary Decision Memorandum

I. Summary

II. Background

III. Scope of the Order

IV. Discussion of the Methodology

V. Recommendation

[FR Doc. 2016-15135 Filed 6-24-16; 8:45 am]

BILLING CODE 3510-DS-P